DEPARTMENT OF AGRICULTURE

Rural Utilities Service

[Docket No. RUS-20-TELECOM-0024]

Notice of Request for Extension of a Currently Approved Information Collection

AGENCY: Rural Utilities Service, USDA.

ACTION: Notice; comment requested.

SUMMARY: In accordance with the Paperwork Reduction Act of 1995, the Rural Housing Service (RHS) invites comments on this information collection for which approval from the Office of Management and Budget (OMB) will be requested. The intention is to request a revision for a currently approved information collection in support of the program for Telecommunications System Construction Policies and Procedures.

DATES: Comments on this notice must be received by August 25, 2020 to be assured of consideration.

FOR FURTHER INFORMATION CONTACT: Robin Jones, Rural Development Innovation Center—Regulations Management Division, USDA, 1400 Independence Avenue SW, Room 2445, South Building, Washington, DC 20250. Telephone: (202) 772-1172. Email robin.m.jones@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RHS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent by the following method:

• Federal eRulemaking Portal: Go to https://www.regulations.gov/ and, in the lower “Search Regulations and Federal Actions” box, select “Rural Utilities Service” from the agency drop-down menu, then click on “Submit.” In the Docket ID column, select RUS-20-TELECOM-0024 to submit or view public comments and to view supporting and related materials available electronically. Information on using Regulations.gov, including instructions for accessing documents, submitting comments, and viewing the docket after the close of the comment period, is available through the site's “User Tips” link.

Title: Telecommunications System Construction Policies and Procedures.

OMB Number: 0572-0059.

Expiration Date of Approval: November 30, 2020.

Type of Request: Extension of a currently approved information collection.

Abstract: In order to facilitate the programmatic interest of the RE Act, and, in order to assure that loans made or guaranteed by the Agency are adequately secured, the Agency, as a secured lender, has established certain forms for materials, equipment and construction of electric and telecommunications systems. The use of standard forms, construction contracts, and procurement procedures helps assure the Agency that appropriate standards and specifications are maintained, the Agency's loan security is not adversely affected; and the loan response. In an effort to improve customer service provided to RUS rural borrowers, the Agency continues to revise, consolidate, and/or streamline its current contracts and contracting procedures.

Estimate of Burden: Public reporting burden for this collection of information is estimated to average 3 hours per response.

Respondents: Public bodies, not for profits, or Indian Tribes.

Estimated Number of Respondents: 572.

Estimated Number of Responses per Respondent: 5.3.

Estimated Total Annual Burden on Respondents: 8,233 hours.

Copies of this information collection can be obtained from Robin M. Jones, Innovation Center—Regulations Management Division, at (202) 772-1172, Email: robin.m.jones@usda.gov.

All responses to this notice will be summarized and included in the request for OMB approval. All comments will also become a matter of public record.

Chad Rupe,
Administrator, Rural Utilities Service.

[FR Doc. 2020-13750 Filed 6-25-20; 8:45 am]

BILLING CODE 3410-XY-P